DEPARTMENT OF TRANSPORTATION

Federal Aviation Administration

Notice of Intentt To Prepare an Environmental Impact Statement, Initiate Section 106 Consultation, and Request for Scoping Comments

AGENCY: Federal Aviation Administration (FAA), DOT.

ACTION: Notice of intent to prepare an Environmental Impact Statement, initiate section 106 consultation, and request scoping comments for the Proposed Airfield, Safety, and Terminal Improvement Project at West Virginia International Yeager Airport, Charleston, Kanawha County, West Virginia.

SUMMARY: The Federal Aviation Administration (FAA) is issuing this notice under the provisions of the National Environmental Policy Act (NEPA) of 1969, as amended, to advise the public that an Environmental Impact Statement (EIS) will be prepared to assess the potential impacts of the proposed Airfield, Safety, and Terminal Improvement Project and its connected actions (the Proposed Action) at the West Virginia International Yeager Airport (CRW or Airport). The Central West Virginia Regional Airport Authority (CWVRAA) is proposing to develop the project in phases to address various safety and operational deficiencies at the Airport. The immediate need is to improve the runway safety areas, meet existing runway length requirements for the Airport's runway, and replace aging and inefficient infrastructure in the terminal area. Phase 1 of CWVRAA's proposed development is intended to address these immediate needs. The long-term need is dependent on and in support of a potential change in the aircraft serving CRW and/or forecast destinations that are anticipated to occur by 2040. Phase 2 of CWVRAA's proposed development is intended to address these long-term needs. To ensure that all significant issues related to the Proposed Action are identified, two (2) in-person public scoping meetings, one (1) virtual public scoping meeting, and one (1) governmental agency scoping meeting will be held.

DATES: The effective date of start of FAA's EIS scoping period is September 30, 2022. The public and agency scoping comment period ends November 17, 2022. In-person public meetings will be held on November 2, 2022 and November 3, 2022. A virtual public meeting will be held November 7, 2022. A governmental agency scoping meeting will be held November 3, 2022.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: The purpose of this notice is to inform federal, state, and local government agencies and the public of the intent to prepare an EIS, to initiate the public and agency scoping process for the EIS, and to conduct public and agency scoping meetings. The purpose of the scoping process is to receive input from the public, as well as from federal, state, and local agencies that have legal jurisdiction and/or special expertise, with respect to any potential environmental impacts associated with the Proposed Action, as well as concerns, issues, and alternatives they believe should be addressed in the EIS. During the scoping process, questions regarding the scope and EIS process will be considered. More information about the Proposed Action, the EIS process, and the scoping meetings can be found at: www.yeagerairporteis.com.

The scoping process for this EIS will include scoping meetings and a comment period for interested agencies and members of the public to submit comments with respect to any potential environmental impacts associated with the Proposed Action, or comments representing the concerns, issues, and alternatives they believe should be addressed in the EIS. The public scoping meetings will provide the opportunity to provide written and/or oral comments. Additional written comments should be submitted to the FAA individual listed in FOR FURTHER INFORMATION CONTACT, or by email to comments@yeagerairporteis.com, no later than 5 p.m. eastern time, Monday, November 17, 2022.

The EIS will be prepared in accordance with the procedures described in the most recent version of applicable FAA orders and guidance, such as FAA Order 1050.1F, Environmental Impacts: Policies and Procedures, and FAA Order 5050.4B, National Environmental Policy Act (NEPA) Implementing Instructions for Airport Actions. The FAA intends to use the preparation of this EIS to comply with the concurrent statutory review process under section 106 of the National Historic Preservation Act (NHPA); section 4(f) of the Department of Transportation (DOT) Act; section 6(f) of the Land and Water Conservation Fund (LWCF) Act; section 7 of the Endangered Species Act; the Magnuson-Stevens Fishery Conservation and Management Act; section 10 of the Rivers and Harbors Act; and section 401 and section 404 of the Clean Water Act. This notice of intent also serves to satisfy the public notice and comment requirements of section 106 of the NHPA; section 4(f) of the DOT Act; section 6(f) of the LWCF Act; DOT Order 5610.2C, U.S. Department of Transportation Actions to Address Environmental Justice in Minority Populations and Low-Income Populations; Executive Order 11990, Protection of Wetlands; DOT Order 5660.1A, Preservation of the Nation's Wetlands; Executive Order 11988, Floodplain Management; and DOT Order 5650.2, Floodplain Management and Protection.

The Proposed Action would require a number of approvals from other federal, state, and local agencies. As the NEPA lead federal agency for the Proposed Action, the FAA invited several agencies to be a Cooperating or Participating Agency in the development of the EIS (40 CFR 1501.8, 1508.1(e), and 1508.1(w)). Cooperating Agencies for the EIS include US Army Corps of Engineers, US Environmental Protection Agency, West Virginia Department of Environmental Protection, West Virginia Development Office, and Kanawha County Parks and Recreation Commission. Participating Agencies for the EIS include Federal Emergency Management Agency, National Park Service, West Virginia Air National Guard, West Virginia Division of Natural Resources, West Virginia State Historic Preservation Office, Kanawha County Department of Planning and Development, Kanawha County Commission, and City of Charleston Planning Department. Additional agencies may be identified throughout the EIS process.

The Proposed Action, as put forward by the CWVRAA, the owner and operator of CRW, would include the shift and extension of Runway 5-23 to the northeast (Runway 23 approach end), construction of a new terminal complex, relocation of Taxiway A and portions of Taxiway B, and connected actions and enabling projects to support the Proposed Action. To separately satisfy immediate and long-term needs of the Airport, the Proposed Project would be developed in two separate phases.

Phase 1 of the Proposed Action would include the following components:

• shift the runway to the northeast by 1,125 feet and extend it by 285 feet, resulting in a total runway length of 7,000 feet;

• construction of standard 1,000-foot by 500-foot graded Runway Safety Areas (RSAs) on both ends of the runway;

• extension of Taxiway A parallel to the new portion of the runway at a standard 400-foot separation distance;

• construction of new entrance, exit, and connector taxiways to connect Taxiway A to the runway shift and extension;

• relocation of associated runway navigational aids (NAVAIDS);

• relocation of portions of the airport operation area (AOA) perimeter fence;

• construction of new vehicle service roads;

• demolition or marking as unusable existing airfield pavement;

• relocation of portions of Taxiway A, from the existing end of Runway 5 to Taxiway C;

• relocation of Taxiway B, extending from Taxiway A to Taxiway Connector B5;

• construction of a 166,000-square-foot replacement terminal, including a replacement concourse, with six total aircraft gates. The replacement terminal would comprise three levels and would include two pedestrian walkway systems, one connecting the replacement terminal to the rental car center/garage and one connecting the replacement terminal to the existing parking garage;

• demolition of the existing terminal facility including existing aircraft gates;

• construction of new apron pavement for the replacement terminal;

• construction of terminal roadway improvements, including a new roundabout at the airport entrance road to support reoriented entrance and exits from the parking areas, and construction of pavement to support a new truck loading dock;

• property acquisition of portions of Coonskin Park for the runway shift and extension;

• identification of replacement properties for Coonskin Park in accordance with section 6(f) of the LWCF Act;

• use of up to approximately 25.6 million cubic yards of fill, potentially utilized from borrow areas located in the adjacent Coonskin Park, necessary to fill in the valley floor for which the extended runway would be constructed and to remove terrain obstructions;

• use of up to approximately 60,000 cubic yards of fill to support the proposed terminal facility and apron expansion;

• construction of three retaining walls and a culvert for Coonskin Branch to facilitate the proposed fill material;

• removal of Coonskin Park facilities within the cut/fill areas; and

• new and relocated utilities to support construction of the Proposed Action.

Phase 2 of the Proposed Action would include the following components:

• shift the runway to the northeast by an additional 280 feet and extend it by an additional 1,000 feet to the northeast (along the existing alignment), resulting in a total runway length of 8,000 feet;

• construction of standard 1,000-foot by 500-foot graded RSAs on both ends of the runway;

• extension of Taxiway A parallel to the new portion of the runway at a standard 400-foot separation distance;

• construction of new entrance, exit, and connector taxiways to connect Taxiway A to the runway shift and extension;

• relocation of associated runway NAVAIDS and installation of an approach lighting system for Runway 5;

• relocation of portions of the AOA perimeter fence;

• construction of new vehicle service roads;

• demolition or marking as unusable existing airfield pavement;

• relocation of the remaining portion of Taxiway A between Taxiway C and the existing Runway 23 end to the standard 400-foot runway to taxiway centerline separation distance;

• construction of a seventh gate to the replacement terminal facility;

• use of up to approximately 4 million cubic yards of fill, potentially utilized from borrow areas located in the adjacent Coonskin Park, and construction of a retaining wall, to support the relocation of Taxiway A; and

• potential relocation of the Airport Traffic Control Tower (ATCT).

The FAA will consider a range of alternatives that could potentially meet the purpose and need to enhance airfield safety, meet existing and forecast future runway needs, and improve efficiency in the terminal area at CRW. As part of the information submittal process, the CWVRAA provided an initial list of alternatives that they had considered. These alternatives, as well as additional identified alternatives, are included below. After considering the public and agency scoping process input, the FAA will identify a list of reasonable alternatives that will be evaluated through the EIS process.

Runway Length of 6,715 Feet: Provide standard runway safety areas or standard EMAS on either or both ends of the runway considering the current physical runway length is 6,715 feet. These alternatives could result in shifting the existing runway.

Runway Length of 6,802 Feet: Provide standard runway safety areas or standard EMAS on either or both ends of the runway considering the previous (pre-slope failure) runway length of 6,802 feet. These alternatives could result in extending and/or shifting the existing runway.

Runway Length of 7,000 Feet: Provide standard runway safety areas or standard EMAS on either or both ends of the runway considering a runway length of 7,000 feet. These alternatives could result in extending and/or shifting the existing runway.

Runway Length of 8,000 Feet: Provide standard runway safety areas or standard EMAS on either or both ends of the runway considering a runway length of 8,000 feet. These alternatives could result in extending and/or shifting the existing runway.

Replacement Terminal: Construct a replacement terminal in a location and manner that improves the efficiency of both airfield and terminal building operations. These alternatives would identify various locations at the Airport for a replacement terminal.

Construction of a New Airport: Construction of a new airport designed to meet all FAA standards.

Transfer of Aviation Activity to Other Airports: Transfer or shifting of aviation activity to another existing public airport (or airports) in West Virginia.

Use of Other Modes of Transportation: Use of other modes of transportation, including automobiles, buses, or existing passenger trains.

No Action Alternative: Under this alternative, the existing airport would remain unchanged. The Authority would take no action to enhance airfield safety, improve Airport operations to meet the takeoff runway length needs, or improve passenger efficiency or experience within the terminal area.

Public Scoping and Agency Meetings

To ensure that the full range of issues related to the Proposed Action are addressed and that all significant issues are identified, comments and suggestions are invited from all interested parties. Public and agency scoping meetings will be conducted to identify any significant issues associated with the Proposed Action.

A governmental agency scoping meeting for all federal, state, and local regulatory agencies which have jurisdiction by law or have special expertise with respect to any potential environmental impacts associated with the Proposed Action will be held on Thursday, November 3, 2022. This meeting will take place at 1 p.m. eastern time, at the Embassy Suites by Hilton Charleston Hotel located at 300 Court Street, Charleston, West Virginia, and will be available virtually via Zoom with a dial-in number to participate via web/telephone, if preferred. A notification letter will be sent in advance of the meeting.

Three public scoping meetings for the general public will be held. The two in-person public scoping meetings will be held from 6 p.m. to 8 p.m. eastern time on Wednesday, November 2, 2022, and from 6 p.m. to 8 p.m. eastern time on Thursday, November 3, 2022. The public scoping meetings will be conducted at the Embassy Suites by Hilton Charleston Hotel located at 300 Court Street, Charleston, West Virginia. A legal notice will also be placed in newspapers having general circulation in the study area. The newspaper notice will notify the public that scoping meetings will be held to gain their input concerning the Proposed Action, alternatives to be considered, and impacts to be evaluated. The in-person public scoping meetings will be open house format with project information displayed and representatives from the FAA and the CWVRAA available to answer questions. There will be no admission fee or other charge, including parking, to attend and participate.

A virtual public workshop will also be held from 6 p.m. to 8 p.m. on Monday, November 7, 2022. The virtual public workshop will be held via Zoom and will provide the opportunity for interested members of the public to participate in a question-and-answer session with representatives from the FAA and the CWVRAA. Registration is required for the virtual public workshop, which is available on the project website at www.yeagerairporteis.com. Translation services, including sign language interpretation, can be made available during the public meetings and workshop, if requested 10 calendar days before the sessions.

Written and oral comments will be accepted at each of the meetings. Comments submitted outside of the meetings should be addressed to the individual listed in FOR FURTHER INFORMATION CONTACT, or by email to comments@yeagerairporteis.com. The Scoping comment period is from September 30, 2022, through November 17, 2022. The public comment period on the scoping phase of the EIS will end at 5 p.m. eastern time on November 17, 2022.

The FAA is aware that there are Native American tribes with a historical interest in the area. The FAA is interacting with them on a government-to-government basis, in accordance with all executive orders, laws, regulations, and other memoranda. The tribes have also been invited to participate in accordance with NEPA, section 106 of the NHPA, and FAA Order 1210.20, American Indian and Alaska Native Tribal Consultation Policy and Procedures.

Issued in Beaver, West Virginia, September 26, 2022.
Matthew Digiulian,
Manager, Beckley Airport Field Office, Airports Division, Eastern Region.

[FR Doc. 2022-21162 Filed 9-28-22; 8:45 am]

BILLING CODE 4910-13-P